FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Census of Finance Companies and Other Lenders and Survey of Finance Companies (FR 3033p and FR 3033s; OMB No. 7100-0277).

DATES: The information collection revisions are effective for May 2025.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 3033p or FR 3033s.

Final Approval Under OMB Delegated Authority of the Extension for Three Years, With Revision, of the Following Information Collections

Collection title: Census of Finance Companies and Other Lenders and Survey of Finance Companies.

Collection identifier: FR 3033p and FR 3033s.

OMB control number: 7100-0277.

General description of collection: The FR 3033p is the first part of a two-stage survey series, which is a census survey designed to identify the universe of finance companies eligible for potential inclusion in the FR 3033s. It gathers limited information including total assets, areas of specialization, and information on the corporate structure of such companies. The second part of these information collections, the FR 3033s, collects balance sheet data on major categories of consumer and business credit receivables and major liabilities, along with income and expenses, and is used to gather information on the scope of a company's operations and loan and lease servicing activities. The data collected from this voluntary survey will be used for two purposes: to benchmark the consumer and business finance series collected on the Board's monthly Domestic Finance Company Report of Consolidated Assets and Liabilities (FR 2248; OMB No. 7100-0005) and to increase the Federal Reserve's understanding of an important part of the financial system.

Frequency: Quinquennially.

Respondents: Finance companies.

Total estimated number of respondents: 8,900.

Total estimated change in burden: (1,584).

Total estimated annual burden hours: 3,540.

Current actions: On December 23, 2024, the Board published a notice in the Federal Register (89 FR 104541) requesting public comment for 60 days on the extension, with revision, of the FR 3033p and FR 3033s. The Board proposed to revise the FR 3033p by removing an opt-in option and mortgage companies from the respondent panel, revising the wording of several questions, and adding the request of RSSD ID and the Nationwide Multistate Licensing System & Registry ID, when applicable. There were no proposed revisions to the FR 3033s as part of this clearance. The comment period for this notice expired on February 21, 2025. The Board did not receive any comments. The revisions will be implemented as proposed.

Board of Governors of the Federal Reserve System.
Benjamin W. McDonough,
Deputy Secretary and Ombuds of the Board.

[FR Doc. 2025-07410 Filed 4-29-25; 8:45 am]

BILLING CODE 6210-01-P